DEPARTMENT OF COMMERCE

National Oceanic and Atmospheric Administration

RIN 0648-XV162

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will convene Monday, January 27 through Thursday, January 30, 2020. See SUPPLEMENTARY INFORMATION for specific dates and times.

ADDRESSES: The meeting will take place at the Hyatt Centric French Quarter Hotel, 800 Iberville Street, New Orleans, LA 70112; telephone: (504) 586-0800.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, January 27, 2020; 8:30 a.m.-5:30 p.m.

The meeting will begin with the Administrative/Budget Committee receiving an update on the 2015-2019 Carryover Request and Funded Contractual Projects; review of Proposed 2020 Budget and Activities, updates to the Administrative Handbook, and Review of Advisory Panels.

The Coral Management Committee will discuss recommendations to the Florida Keys National Marine Sanctuary and recommendations made by the Joint Gulf and South Atlantic Spiny Lobster Advisory Panel.

Sustainable Fisheries Committee will discuss Interagency Coordination for Aquaculture Science and Management; review Public Hearing Draft Amendment Reef Fish 48/Red Drum 5: Status Determination Criteria and Optimum Yield for Reef Fish and Red Drum; and, draft options for Framework Action to evaluate Trolling Provisions in Madison-Swanson and Steamboat Lumps. The Committee will also discuss Section 102: Fishery Management Measures of the Modernizing Recreational Fisheries Management Act of 2018 and Allocation issues.

Tuesday, January 28, 2020; 8:30 a.m.-5:30 p.m.

The Reef Fish Management Committee will review Reef Fish and Coastal Migratory Pelagics (CMP) Landings and Draft Amendments 36B and 36C: Modifications to Commercial Individual Fishing Quota (IFQ) Programs and Presentations. The Committee will review Draft Framework Action to Modify Greater Amberjack Recreational Management Measures and receive the Scientific and Statistical Committee's (SSC) report for Lane Snapper Fishing Effort Survey (FES)-Adjusted Catch Recommendations. The Committee will also discuss Draft Options: Amendment 53 for Red Grouper Catch Limits and Sector Allocations.

National Marine Fisheries Service (NMFS) will hold a Question and Answer session immediately following the Reef Fish Committee.

Wednesday, January 29, 2020; 8:30 a.m.-5:30 p.m.

The Reef Fish Management Committee will discuss Draft Amendment 52: Red Snapper Sector Allocations; receive State Management Performance Reports for 2019 Private Angling Red Snapper Fishing Season, and the January 2020 SSC Meeting Summary report.

The Migratory Species Committee will receive summary reports from the Highly Migratory Species (HMS) and International Commission for the Conservation of Atlantic Tunas (ICCAT) Advisory Panel meetings; and, a presentation on Shark Population Abundance Trends and Depredation.

Full Council will convene mid-morning with a Call to Order, Announcements, and Introductions; Adoption of Agenda and Approval of Minutes. Council will review Exempted Fishing Permit (EFP) Applications and public comments (if any); and, receive a presentation on Louisiana's Law Enforcement Efforts and update on Southeast For-Hire Integrated Electronic Reporting (SEFHIER). The Council will hold public comment testimony beginning at 1:45 p.m. until 5:30 p.m. for the Florida Keys National Marine Sanctuary Proposed Expansion; and, open testimony on other fishery issues or concerns. Anyone wishing to speak during public comment testimony should sign in at the registration station located at the entrance of the meeting room.

Thursday, January 30, 2020; 8:30 a.m.-4 p.m.

The Council will receive reports from the following management committees: Administrative/Budget, Coral, Sustainable Fisheries, Migratory Species and Reef Fish. The Council will vote on Exempted Fishing Permit (EFP) applications, if any; and receive updates from the following supporting agencies: South Atlantic Fishery Management Council; NOAA Office of Law Enforcement (OLE), Gulf States Marine Fisheries Commission; U.S. Coast Guard; U.S. Fish and Wildlife Service; Department of State.

Lastly, the Council will discuss Other Business items; Status Update on Proposed Turtle Excluder Devices (TED) Regulations for Skimmer Trawls.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: December 23, 2019.
Tracey L. Thompson,
Acting Deputy Director, Office of Sustainable Fisheries, National Marine Fisheries Service.

[FR Doc. 2019-28199 Filed 12-30-19; 8:45 am]

BILLING CODE 3510-22-P